DEPARTMENT OF HEALTH AND HUMAN SERVICES

National Institutes of Health

Center for Scientific Review Cancellation of Meeting

Notice is hereby given of the cancellation of the Center for Scientific Review Special Emphasis Panel, November 30, 2017, 1:00 p.m. to November 30, 2017, 3:00 p.m., National Institutes of Health, 6701 Rockledge Drive, Bethesda, MD 20892 which was published in the Federal Register on November 6, 2017, 82 FR 51427.

The meeting is cancelled due to the re-assignment of applications.

Dated: November 16, 2017.
Melanie J. Pantoja,
Program Analyst, Office of Federal Advisory Committee Policy.

[FR Doc. 2017-25217 Filed 11-21-17; 8:45 am]

BILLING CODE 4140-01-P